DEPARTMENT OF DEFENSE

Office of the Secretary

Freedom of Information Act Request for Papers Submitted to DARPA for the 2011 100 Year Starship Symposium

AGENCY: Defense Advanced Research Projects Agency (DARPA), DoD.

ACTION: Notice.

SUMMARY: Authors who submitted full papers based on selected abstracts submitted as proposed talks for panels at the 2011 100 Year Starship Symposium must provide DARPA a written response explaining how disclosure of his or her paper, either in its entirety or portions thereof, would likely cause substantial competitive harm to their competitive position and/or impair the Government's ability to obtain similar information in the future if the submitter of the information believes that some or all of the paper submitted to DARPA should be withheld in response to a request received by DARPA under the Freedom of Information Act.

DATES: All written correspondence must be received by DARPA by close of business December 7, 2012.

ADDRESSES: Send written comments concerning this Freedom of Information Act request by email to foiamail@darpa.mil or by mail at the DARPA FOIA Office, 675 North Randolph Street, Arlington VA 22203.

FOR FURTHER INFORMATION CONTACT: DARPA FOIA Office at 571-218-4297 or foiamail@darpa.mil.

SUPPLEMENTARY INFORMATION: The Defense Advanced Research Projects Agency (DARPA) has received a request under the Federal Freedom of Information Act (5 U.S.C. 552) (FOIA) for copies of final paper submissions that were based on selected abstracts submitted as proposed talks for discussion panels at the 2011 100 Year Starship Symposium. DARPA requested sample abstracts from the public for topics of discussion for the 2011 100 Year Starship Symposium and, from those submissions, certain abstracts were selected, and the symposium organizers requested the authors submit final papers on their topic(s).

Under the FOIA, the Government is required to release to a requester copies of documents it maintains that are not otherwise protected by an exemption to the FOIA. One particular exemption, exemption (b)(4), protects from disclosure any records, or portions thereof, that contain “trade secrets and commercial or financial information obtained from a person that is privileged or confidential.” 5 U.S.C. 552(b)(4).

If you submitted a final paper in response to a selected abstract for the 2011 100 Year Starship Symposium, and if you believe some or all of the final paper should be withheld, you must notify DARPA in writing within thirty (30) days from the date of publication of this Federal Register notice. Your written response must specifically identify which paper you submitted to DARPA for which you are asserting privilege under exemption (b)(4). You should include a copy of your paper with your written response. Your written response must indicate the following: (1) That you are responding to this notice in the Federal Register, and (2) why the information contained in the paper is commercial or financial information that is privileged or confidential. Indicate with brackets (“[ ]”) information that should be withheld.

In order to protect information under exemption (b)(4) of the FOIA, your written response must explain, in detail, how disclosure of your paper would likely cause substantial harm to your competitive position and/or how disclosure of your paper will impair the Government's ability to obtain similar information in the future. A concluding statement, to the effect of “the information is confidential because releasing it could cause substantial competitive harm,” will not suffice. Your written response must include your full name and complete address. Also include your direct telephone number and/or email address if available.

You may notify the DARPA FOIA Office of your position by sending your written response by email to the DARPA FOIA at foiamail@darpa.mil or by mailing the DARPA FOIA Office at 675 North Randolph Street, Arlington, VA 22203. If the DARPA FOIA Office does not receive a response from you within thirty (30) days from the date of publication of this Federal Register notice, your paper will be publically released.

Dated: November 2, 2012.
Aaron Siegel,
Alternate OSD Federal Register Liaison Officer, Department of Defense.

[FR Doc. 2012-27186 Filed 11-6-12; 8:45 am]

BILLING CODE 5001-06-P